DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than October 30, 2008.

Interested persons are invited to submit written comments regarding the subject matter of the investigations to the Director, Division of Trade Adjustment Assistance, at the address shown below, not later than October 30, 2008.

The petitions filed in this case are available for inspection at the Office of the Director, Division of Trade Adjustment Assistance, Employment and Training Administration, U.S. Department of Labor, Room C-5311, 200 Constitution Avenue, NW., Washington, DC 20210.

Signed at Washington, DC, this 8th day of October 2008.
Erin Fitzgerald,
Director, Division of Trade Adjustment Assistance.

Appendix—TAA Petitions Instituted Between 9/29/08 and 10/3/08
TA-W | Subject Firm (Petitioners) | Location | Date of institution | Date of petition
64124 | Certified Metal Finishing (Wkrs) | Benton Harbor, MI | 09/29/08 | 09/25/08
64125 | GE Healthcare Bioscience BioProess Corp. (Comp) | Somerset, NJ | 09/29/08 | 09/26/08
64126 | Netshape Technologies (Comp) | Falls Creek, PA | 09/29/08 | 09/10/08
64127 | Hewlett-Packard, Imaging and Printing Group (Comp) | Vancouver, WA | 09/29/08 | 09/26/08
64128 | Biomet (Wkrs) | Parsippany, NJ | 09/29/08 | 09/25/08
64129 | Broyhill Furniture Industries, Inc., Plant #5 (Wkrs) | Taylorsville, NC | 09/29/08 | 09/26/08
64130 | Sears Holdings (Wkrs) | Columbus, OH | 09/29/08 | 09/24/08
64131 | A.H. Schreiber Company (Comp) | Bristol, TN | 09/29/08 | 09/26/08
64132 | JDSU SW Data Com Product (State) | Louisville, CO | 09/30/08 | 09/26/08
64133 | Cencorp, LLC (Comp) | Boulder, CO | 09/30/08 | 09/29/08
64134 | Diebold (IUECWA) | Hebron, OH | 09/30/08 | 09/29/08
64135 | Panasonic Electronic Devices Corporation of America (Comp) | Knoxville, TN | 09/30/08 | 09/29/08
64136 | Magna Power Train, Inc. (Wkrs) | Sterling Heights, MI | 09/30/08 | 09/08/08
64137 | Electro Scientific Industries, Inc. (State) | Portland, OR | 09/30/08 | 09/22/08
64138 | Premier Manufacturing Support Services (State) | Shreveport, LA | 09/30/08 | 09/29/08
64139 | Fitrona Greensboro, Inc. (Comp) | Greensboro, NC | 09/30/08 | 09/29/08
64140 | Wellman, Inc. (Comp) | Johnsonville, SC | 09/30/08 | 09/22/08
64141 | Microplane (State) | Russellville, AR | 10/01/08 | 09/30/08
64142 | St. Lawrence Zinc Company, LLC (Wkrs) | Governeur, NY | 10/01/08 | 09/27/08
64143 | Universal Manufacturing Corporation (UAW) | Zelienople, PA | 10/01/08 | 09/30/08
64144 | B & S Hosiery (Comp) | Sylvania, AL | 10/01/08 | 09/29/08
64145 | Flakeboard America (State) | Simsboro, LA | 10/01/08 | 09/29/08
64146 | Angelo DiMaria, Inc. (Comp) | Providence, RI | 10/01/08 | 09/30/08
64147 | Mahle Engine Components USA, Inc. (Comp) | Muskegon, MI | 10/01/08 | 09/30/08
64148 | Telect Liberty Lake (Comp) | Liberty Lake, WA | 10/01/08 | 09/22/08
64149 | Sanmina-SCI Corporation (Comp) | Pleasant Prairie, WI | 10/02/08 | 10/01/08
64150 | Andritz, Inc. (Wkrs) | Muncy, PA | 10/02/08 | 10/01/08
64151 | Casey Tool and Machine (State) | Casey, IL | 10/02/08 | 09/30/08
64152 | McClatchy Newspapers/The Sacramento Bee (Wkrs) | Sacramento, CA | 10/02/08 | 09/22/08
64153 | Thorngate Ltd (UNITE) | Cape Girardeau, MO | 10/02/08 | 09/30/08
64154 | Hewlett Packard Company (State) | Corvallis, OR | 10/02/08 | 09/30/08
64155 | Window Fashions, Inc. (Wkrs) | Pittsburgh, PA | 10/02/08 | 10/01/08
64156 | Boise Cascade (Wkrs) | Kettle Falls, WA | 10/02/08 | 10/01/08
64157 | Ben Mar Hosiery (State) | Fort Payne, AL | 10/02/08 | 09/30/08
64158 | Metaldyne (UAW) | New Castle, IN | 10/02/08 | 10/01/08
64159 | Panasonic Automotive Systems Co of America (Comp) | Peachtree City, GA | 10/02/08 | 09/22/08
64160 | Boise Cascade, LLC (AFLCIO) | St. Helens, OR | 10/03/08 | 10/02/08
64161 | Titus Tool Co., Inc. (Comp) | Kent, WA | 10/03/08 | 10/01/08
64162 | Rock Tenn Company (Comp) | Baltimore, MD | 10/03/08 | 09/22/08
64163 | Barnes Aerospace (State) | Windsor, CT | 10/03/08 | 10/02/08
64164 | Veka Innovations dba Vinyl Source (Comp) | Youngstown, OH | 10/03/08 | 09/30/08

[FR Doc. E8-24859 Filed 10-17-08; 8:45 am]

BILLING CODE 4510-FN-P